DEPARTMENT OF EDUCATION

Applications for New Awards; Opening Doors, Expanding Opportunities

AGENCY: Office of Elementary and Secondary Education, Department of Education.

ACTION: Notice.

Overview Information:

Opening Doors, Expanding Opportunities

Notice inviting applications for new awards using fiscal year (FY) 2016 funds.

Catalog of Federal Domestic Assistance (CFDA) Number: 84.377C.

DATES:

Applications Available: December 14, 2016.

Date of Pre-Application Webinar: January 5, 2017.

Deadline for Notice of Intent to Apply (optional): January 13, 2017.

Deadline for Transmittal of Applications: February 13, 2017.

Deadline for Intergovernmental Review: April 13, 2017.

Full Text of Announcement

I. Funding Opportunity Description

Purpose of Program

In an effort to support the implementation of effective school improvement strategies, the U.S. Department of Education (Department) is using a portion of its FY 2016 School Improvement Grants (SIG) national activities funds to initiate the FY 2017 grant competition for the Opening Doors, Expanding Opportunities program. This program supports Local Educational Agencies (LEAs) ¹ and their communities in preparing to implement innovative, effective, ambitious, comprehensive, and locally driven strategies to increase socioeconomic diversity in schools and LEAs as a means to improve the achievement of students in the lowest-performing schools.² Through the Opening Doors, Expanding Opportunities program, the Department will support LEAs in two different stages of increasing socioeconomic diversity in their schools. First, this program supports an LEA, or a consortium of LEAs, to: (1) Analyze existing challenges and devise potential solutions for increasing socioeconomic diversity in their schools; and (2) create a blueprint for improving academic outcomes for students in their lowest-performing schools by substantially increasing socioeconomic diversity, as referenced above, in their lowest-performing schools by the end of the 2025-2026 school year and a strategy for implementing that blueprint. Second, this program supports an LEA, or a consortium of LEAs, that have existing or established efforts to improve student outcomes by increasing socioeconomic diversity, to: (1) Analyze existing challenges and devise potential solutions for further increasing socioeconomic diversity in their schools; (2) publish a blueprint for building on these existing efforts to improve academic outcomes for students in their lowest-performing schools by substantially increasing and maintaining socioeconomic diversity in their lowest-performing schools by the end of the 2025-2026 school year; and (3) execute one or more Pre-Implementation Activities that will contribute to the possible full implementation of the blueprint after the grant period.

¹ Defined terms are used throughout the notice and are indicated by capitalization.

² Note that applicants may address various types of diversity. If racial or ethnic diversity is considered it should be one of many factors in accordance with the “Guidance on the Voluntary Use of Race to Achieve Diversity and Avoid Racial Isolation in Elementary and Secondary Schools,” released by the U.S. Department of Education's Office for Civil Rights (OCR) and the U.S. Department of Justice on December 2, 2011. http://www2.ed.gov/about/offices/list/ocr/docs/guidance-ese-201111.html.

The resulting blueprints will: (1) Provide a publicly available implementation plan for the grantee LEAs and their communities to support efforts to increase the socioeconomic diversity in their schools; (2) serve as a resource for local and State policy decisions that could reduce barriers to, and build support for, increasing socioeconomic diversity in schools; and (3) serve as a resource for other communities considering similar approaches.

The Department also intends to provide technical assistance to grantees during the grant period, which will include a community of practice with opportunities for collaborative planning and problem solving with other grantees and experts in the field.

Background

The SIG program, authorized under section 1003(g) of Title I of the Elementary and Secondary Education Act of 1965 (ESEA), as amended by the No Child Left Behind Act of 2001 (NCLB), provides resources in order to substantially raise the achievement of students in the lowest-performing schools. Since FY 2012, Congress has authorized the Department to reserve up to five percent of the SIG appropriations to carry out activities to build State and LEA capacity to implement the SIG program effectively. These funds are used to build upon the school improvement work that States and LEAs have been doing with SIG funds in order to raise the achievement of students in SIG Schools. The Department has used its national activities reservation to support SEAs, LEAs, and schools in increasing the effectiveness of their school improvement activities, including through activities that support the preparation and development of school leaders who lead turnaround efforts; the development of early warning indicator systems to help identify students at risk of dropout early on to provide appropriate interventions as soon as possible; efforts to strengthen community partnerships in low-performing schools with AmeriCorps service members; and the incorporation of arts into school turnaround efforts. The Department will take the lessons it has learned from the investments it has made to date, and with this notice apply it to the school improvement efforts it will undertake as it seeks to support State and local implementation of the Every Student Succeeds Act (ESSA), which calls for all States to target attention and resources to their lowest performing schools, those with chronic underperformance among student subgroups, and high schools with low graduation rates.

Increasing student diversity is one of many potentially beneficial strategies for improving low-performing schools. As outlined in this section, studies of recent initiatives to increase student diversity indicate that such efforts may improve student achievement and may particularly benefit students from low-income households. Furthermore, increasing student diversity has the potential to further support whole-school reform models implemented in SIG Schools. Diverse learning environments can serve as engines of social mobility. Unfortunately, our Nation's schools are becoming less diverse and more segregated each year. More than sixty years after Brown v. Board of Education, public schools continue to be separate and unequal, with recent research showing that America's schools are more segregated, not only by students' race, but also socioeconomic status, than they were in the late 1960s.³ For example, nearly one-quarter (24 percent) of our Nation's public school students attend high-poverty schools (75-100 percent poverty level).⁴ In many cases, high-poverty schools are in high-poverty LEAs (75-100 percent poverty level).⁵ Specifically as it relates to the SIG program, when compared to all public elementary and secondary schools, SIG-Eligible Schools were more likely to be high-poverty (72 percent of students in SIG-Eligible Schools were eligible for free or reduced-price lunch compared to 47 percent of students nationwide).⁶

³ Orfield, G., Frankenberg, E., Jongyeon, E., & Kuscera, J. (2014). Brown at 62: Great Progress, a Long Retreat and an Uncertain Future. Civil Rights Project/Proyecto Derechos Civiles, May 2014 (revised version May 15, 2014).

⁴ U.S. Department of Education, National Center for Education Statistics, Common Core of Data (CCD), “Public Elementary/Secondary School Universe Survey,” 2010-11. See Digest of Education Statistics 2012. https://nces.ed.gov/ccd/pubschuniv.asp.

⁵ Owens, A, Reardon, S.F., & Jencks, C. (2016). Income Segregation between Schools and Districts, 1990 to 2010. Stanford Center for Education Policy Analysis. Retrieved from: http://cepa.stanford.edu/sites/default/files/wp16-04-v201602.pdf.

⁶ U.S. Department of Education, National Center for Education Statistics, “School Improvement Grants: Analyses of State Applications and Eligible and Awarded Schools,” 2012. http://ies.ed.gov/ncee/pubs/20124060/.

These data reflect inequities that can have detrimental impacts on children and communities. Studies have shown that students from low-income households enter kindergarten far behind their middle- and upper-income peers. For example, cognitive and socio-emotional skill gaps between low-income and middle-class children are evident by kindergarten entry, and these gaps persist through the beginning of high school.⁷ Disadvantaged children still enter kindergarten with fewer academic and behavioral skills than their more advantaged peers, though the academic skills gap narrowed between 1998 and 2010.⁸ The academic skills gaps between low- and high-socioeconomic status children are larger than the skills gaps between non-white and white students.⁹

⁷ Noble, K.G., Norman, M.F., & Farah, M.J. (2005). “Neurocognitive correlates of socioeconomic status in kindergarten children.” Developmental Science, 8(1), 74-78;

Hackman, D.A., & Farah, M.J. (2009). “Socioeconomic status and the developing brain.” Trends in Cognitive Sciences, 13(2), 65-73. doi:10.1016/j.tics.2008.11.003;

Hughes, C., Ensor, R., Wilson, A., & Graham, A. (2010). “Tracking executive function across the transition to school: A latent variable approach.” Developmental Neuropsychology, 35(1), 20-36. doi:10.1080/87565640903325691;

Council of Economic Advisers. (2016). 2016 Economic Report of the President. Accessed from https://www.whitehouse.gov/sites/default/files/docs/ERP_2016; Isaaacs, J.B. (2012). Starting School at a Disadvantage: The School Readiness of Poor Children. Washington, DC: Brookings Institution. Accessed from www.brookings.edu/wp-content/uploads/2016/06/0319_school_disadvantage_isaacs.pdf.

⁸ Reardon, S.F. & Portilla, X.A. (2016). “Recent trends in income, racial, and ethnic school readiness gaps at kindergarten entry.” AERA Open, 2(3), 1-18.

⁹ Reardon & Portilla (2016).

Multiple studies indicate that increasing student diversity, through socioeconomic diversity and other means, is one strategy that holds promise for supporting efforts to improve low-performing schools. One study showed that low-income children gain more language and mathematics skills from preschool if they attend preschools with children from economically diverse backgrounds.¹⁰ In addition, students from low-income households attending more affluent schools have been found to have higher mathematics and science scores than similar students from low-income households attending high-poverty schools. For example, average scale scores on the 2009 National Assessment of Educational Progress Fourth Grade Mathematics assessment ¹¹ were about 240 for low-income students in schools with 1-25 percent low-income students in the school, compared to about 220 for low-income students in schools with 76-99 percent low-income students in the school.¹² Moreover, students who attend low-poverty schools are nearly 70 percent more likely to enroll in a four-year college than students who attend high-poverty schools; mediating factors include peer effects and school effects (such as a schoolwide emphasis on academics).¹³

¹⁰ Reid, J.L. (2012). “Socioeconomic Diversity and Early Learning: The Missing Link in Policy for High-Quality Preschools.” In R. Kahlenberg (Ed.), The Future of School Integration: 67-125.

¹¹ For more information about how to interpret NAEP scores, you may wish to visit the following Web site: https://nces.ed.gov/nationsreportcard/mathematics/interpret_results.aspx.

¹² Mantil, A., Perkins, A.G., & Aberger, S. (2012). “The Challenge of High-Poverty Schools: How Feasible Is Socioeconomic School Integration?” In R. Kahlenberg (Ed.), The Future of School Integration: 155-222.

¹³ Palardy, G.J. (2013). “High School Socioeconomic Segregation and Student Attainment.” American Educational Research Journal: 714-754.

Although the Department anticipates that applicants will propose to develop approaches best suited to their local context, it is worth illuminating a few examples of efforts to increase student diversity. Data on one effort that increased socioeconomic diversity in Montgomery County, Maryland, schools ¹⁴ shows that after five to seven years, students in public housing who were randomly assigned to low-poverty elementary schools significantly outperformed their peers in public housing who attended moderate-poverty elementary schools in both mathematics and reading.¹⁵ Additionally, some districts with longstanding socioeconomic integration programs, such as the Cambridge Public School District, have seen steadily rising scores on State assessments and high school graduation rates.¹⁶ Inter-district policies also hold promise to reduce the number of high-poverty schools.¹⁷

¹⁴ This policy allows the public housing authority to purchase one-third of the inclusionary zoning homes in each subdivision to operate as federally subsidized public housing, which enables students from low-income households who occupy those public housing units to attend schools in that neighborhood-based attendance zone.

¹⁵ Schwartz, H. (2012). “Housing Policy is School Policy: Economically Integrative Housing Promotes Academic Success in Montgomery County, Maryland.” In R. Kahlenberg (Ed.), The Future of School Integration: 27-66.

¹⁶ Potter, H., Quick, K, & Davies, E. (2016). “A New Wave of School Integration: Districts and Charters Pursuing Socioeconomic Diversity.” The Century Foundation. Retrieved from: https://tcf.org/content/report/a-new-wave-of-school-integration/.

¹⁷ Mantil, A., Perkins, A.G., & Aberger, S. (2012). “The Challenge of High-Poverty Schools: How Feasible Is Socioeconomic School Integration?” The Future of School Integration: 155-222.

Therefore, as Secretary King recently noted, “A number of promising examples demonstrate what research has shown: increasing diversity has the power to pay off for everyone. From corporate boards to the scientific world, there are increasing indications that diversity isn't just a feel-good nicety—it's a clear path to better outcomes in school and in life.” ¹⁸ As the above instances show, although student diversity in our Nation's public schools remains alarmingly low, there are several examples of policies that have increased diversity in schools. In addition to the examples mentioned above, some LEAs currently use socioeconomic status as a consideration in student school assignment, including strategies such as attendance zone boundaries, district-wide choice policies, magnet school opportunities, and transfer policies. Some charter school operators across the country also consider socioeconomic status in their admissions policies.¹⁹

¹⁸ King, J. (2016). “Stronger Together: Why Our Budget Supports Voluntary, Community-led Efforts to Increase Diversity.”Medium. https://medium.com/@JohnKingAtED/stronger-together-why-our-budget-supports-voluntary-community-led-efforts-to-increase-diversity-53b45a5f49df#.n9h807fre.

¹⁹ Potter, H., Quick, K, & Davies, E. (2016). “A New Wave of School Integration: Districts and Charters Pursuing Socioeconomic Diversity.” The Century Foundation, 2016. Retrieved from: https://tcf.org/content/report/a-new-wave-of-school-integration/.

Through the Opening Doors, Expanding Opportunities program, the Department invites interested LEAs and consortia of LEAs to apply for funding to develop ambitious blueprints focused on improving academic outcomes for students in SIG Schools or SIG-Eligible Schools by systematically increasing socioeconomic diversity, and offers the option to apply for funding for one or more Pre-Implementation Activities aligned to their blueprint. The Department seeks to support applicants who will explore and develop voluntary, community-led strategies that will positively impact the socioeconomic diversity in a significant percentage or number of SIG Schools or SIG-Eligible Schools where a substantial number of students are acutely impacted by a lack of student diversity, while also closing historic achievement gaps. Applicants may, but are not required to, consider developing voluntary strategies to increase socioeconomic diversity in early learning settings (which may include schools implementing the SIG early learning model, as described in the SIG final requirements, published in the Federal Register on February 9, 2015 (80 FR 7223)), charter schools, and secondary schools. Applicants may, but are not required to, consider how they might develop new, or leverage existing, partnerships through this program; communities that have been designated “Promise Zones” ²⁰ and communities that have recently completed the U.S. Department of Housing and Urban Development's Assessment of Fair Housing ²¹ are encouraged to apply.

²⁰ A list of designated Promise Zones and lead organizations, as well as a more detailed description about the program, can be found at the following Web site: http://portal.hud.gov/hudportal/HUD?src=/press/press_releases_media_advisories/2016/HUDNo_16-085.

²¹ For more information see the following Web site: https://www.hudexchange.info/programs/affh/overview/.

Although the Department expects applicants to propose plans for developing blueprints for socioeconomic diversity, applicants may also choose to voluntarily promote student diversity by considering additional factors beyond socioeconomic diversity, including race and ethnicity, in their efforts to diversify schools. We encourage all applicants choosing to consider factors in addition to socioeconomic diversity to consult the “Guidance on the Voluntary Use of Race to Achieve Diversity and Avoid Racial Isolation in Elementary and Secondary Schools,” released by the U.S. Department of Education's Office for Civil Rights (OCR) and the U.S. Department of Justice on December 2, 2011.²² The guidance outlines, “school districts should first determine if they can meet their compelling interests by using race-neutral approaches. When race-neutral approaches would be unworkable to achieve their compelling interests, school districts may employ generalized race-based approaches. Generalized race-based approaches employ expressly racial criteria, such as the overall racial composition of neighborhoods, but do not involve decision-making on the basis of any individual student's race.” The guidance also provides examples of approaches that may be considered, including school and program siting; grade realignment and feeder patterns; school zoning; open choice and enrollment; admission to competitive schools and programs; and inter- and intra-district transfers. We encourage applicants to consult legal counsel when considering which approaches might be best suited to a particular situation and in alignment with their project's objectives.

²² http://www2.ed.gov/about/offices/list/ocr/docs/guidance-ese-201111.html.

Priorities: This competition includes three absolute priorities and two competitive preference priorities. We are establishing these priorities for this FY 2017 grant competition (which uses FY 2016 SIG national activities funds) and any subsequent year in which we make awards from the list of unfunded applications from this competition, in accordance with section 437(d)(1) of the General Education Provisions Act (GEPA), 20 U.S.C. 1232(d)(1).

Absolute Priorities: These priorities are absolute priorities. Under 34 CFR 75.105(c)(3), we consider only applications that meet Absolute Priority 1 and either Absolute Priority 2 or Absolute Priority 3. All applicants must address Absolute Priority 1. Absolute Priority 1 is from the notice of final supplemental priority for discretionary grant programs, published in the Federal Register on September 14, 2016 (81 FR 63099).

An applicant must indicate in its application whether it is applying under Absolute Priority 2 or Absolute Priority 3. If an applicant applies under Absolute Priority 3 and is deemed ineligible, it will be considered for funding under Absolute Priority 2, if it meets the requirements for Absolute Priority 2. If an applicant mistakenly applies under Absolute Priority 2 but clearly proposes Pre-Implementation Activities and meets the requirements for Absolute Priority 3, it will be peer reviewed for consideration under Absolute Priority 3. The Secretary prepares a rank order of applications for Absolute Priority 2 and Absolute Priority 3 based solely on the evaluation of their quality according to the selection criteria. Absolute Priorities 2 and 3 each constitutes its own funding category. Assuming that applications in each funding category are of sufficient quality, the Secretary intends to award grants under both Absolute Priorities 2 and 3 (Absolute Priority 1 applies to all grants).

These priorities are:

Absolute Priority 1: Increasing Socioeconomic Diversity in Schools.

Projects that are designed to increase socioeconomic diversity in educational settings by addressing one or more of the following:

(a) Using established survey or data-collection methods to identify socioeconomic stratification and related barriers to socioeconomic diversity at the classroom, school, district, community, or regional level.

(b) Designing or implementing, with community input, education funding strategies, such as the use of weighted per-pupil allocations of local, State, and eligible Federal funds, to provide incentives for schools and districts to increase socioeconomic diversity.

(c) Developing or implementing policies or strategies to increase socioeconomic diversity in schools that are evidence-based; demonstrate ongoing, robust family and community involvement, including a process for intensive public engagement and consultation; and meet one or more of the following factors—

(i) Are carried out on one or more of an intra-district, inter-district, community, or regional basis;

(ii) Reflect coordination with other relevant government entities, including housing or transportation authorities, to the extent practicable;

(iii) Include one or both of the following strategies—

(A) Establishing school assignment or admissions policies that are designed to give preference to low-income students, students from low-performing schools, or students residing in neighborhoods experiencing concentrated poverty to attend higher-performing schools; or

(B) Establishing or expanding schools that are designed to attract substantial numbers of students from different socioeconomic backgrounds, such as magnet or theme schools, charter schools, or other schools of choice.

Absolute Priority 2: Improving Schools by Increasing Student Diversity—Blueprint.

To meet this priority, the applicant must propose to develop a blueprint for improving student academic outcomes in SIG Schools or SIG-Eligible Schools by increasing the diversity of students enrolled in those schools and, at the applicant's discretion, other schools in the LEA(s) to be served. Applicants under this priority may only use funds for Planning Activities.

Absolute Priority 3: Improving Schools by Increasing Student Diversity—Blueprint and Pre-implementation.

To meet this priority, the applicant must propose to: (1) Develop a blueprint for improving student academic outcomes in SIG Schools or SIG-Eligible Schools by increasing the diversity of students enrolled in those schools and, at the applicant's discretion, other schools in the LEA(s) to be served, including by expanding existing plans of the LEA(s) to increase student diversity in schools; and (2) execute one or more Pre-Implementation Activities that are outlined in existing plans. The applicant must also provide evidence of its existing diversity plans.

Competitive Preference Priorities: These priorities are competitive preference priorities. Under 34 CFR 75.105(c)(2)(i), we award up to an additional six points to an application for Competitive Preference Priority 1, depending on how well the application addresses this priority, and we award an additional three points to an application that meets Competitive Preference Priority 2.

These priorities are:

Competitive Preference Priority 1: Blueprint for Inter-District Efforts to Increase Student Diversity. (zero to six points)

This priority is for applicants that propose to develop a blueprint that includes establishing or expanding an inter-district partnership that provides students with increased educational options by allowing them to attend schools in another LEA. Under this priority, an inter-district partnership may be between contiguous or non-contiguous LEAs. Under this priority, the applicant must submit, for each LEA that will participate in the inter-district partnership, a memorandum of understanding (MOU) or letter of commitment signed by the superintendent or chief executive officer (CEO) of each LEA that describes each LEA's proposed commitment, including its contribution of financial or in-kind resources (if any). An applicant will receive competitive preference priority points under this priority based on the strength of the commitment of each LEA to the partnership. Note that applicants do not need to apply as a consortium to be considered for Competitive Preference Priority 1 points.

Competitive Preference Priority 2: Efforts to Increase Student Diversity in Rural Schools. (zero or three points)

This priority is for applicants that propose to serve at least one SIG School or SIG-Eligible School designated as a Rural School. If applying as a consortium, at least one LEA in the consortium must have at least one SIG School or SIG-Eligible School designated as a Rural School. Applicants applying under this priority must provide the school name and National Center for Education Statistics (NCES) number for each school designated as a Rural School. An applicant will receive three competitive preference priority points under this priority if at least one SIG School or SIG-Eligible School the applicant proposes to serve is designated as a Rural School.

Application Requirements:

Assurances. The applicant must assure in its grant application that it will:

(1) Fully participate in the Opening Doors, Expanding Opportunities Community of Practice to explore strategies and design solutions to relevant problems, and also attend, in-person, at least one project director's meeting;

(2) Participate in any program evaluation or related activity (which may include public presentations) conducted by or for the Department, including by providing access to relevant program and project data and other information, as appropriate; and

(3) Submit to the Department within the project period of the grant award, a blueprint that meets the Program Requirements as outlined in this notice.

Plan to Develop a Blueprint. In its application, the applicant must describe how it will develop a blueprint for public dissemination by the end of the project period of the grant award by addressing the following: need for the project, significance of the project, project design, project personnel, management plan, and resources.

Pre-Implementation Activities Plan. If applying under Absolute Priority 3, in its application, the applicant must also describe:

(1) Each Pre-Implementation Activity;

(2) How each Pre-Implementation Activity will promote student diversity in the schools to be served;

(3) How each proposed Pre-Implementation Activity will contribute to full implementation of the blueprint;

(4) A theory of action and the evidence base (with consideration for the Department's recent guidance on using evidence ²³) that support the appropriateness and effectiveness of each Pre-Implementation Activity;

²³ Available at http://www2.ed.gov/policy/elsec/leg/essa/guidanceuseseinvestment.pdf.

(5) A description of the anticipated challenges and potential solutions to executing each Pre-Implementation Activity, including stakeholder support for work to date and plans to engage stakeholders going forward;

(6) The timeline for executing each Pre-Implementation Activity;

(7) The costs associated with each Pre-Implementation Activity, including the process by which such costs were estimated;

(8) The significance of the anticipated impact on the participating LEA(s) and schools, including, but not limited to: The percentage and number of schools and students (disaggregated by socioeconomic status, race, or ethnicity, as appropriate for the blueprint) that will be affected by each Pre-Implementation Activity;

(9) In the appendix, current or recent student diversity plans (which do not need to meet the blueprint requirements at the time of application) or other relevant documentation to demonstrate that the applicant has existing or established efforts related to student diversity; and

(10) If applicable, a description of how the applicant will leverage new or existing partnerships to execute each Pre-Implementation Activity, such as, but not limited to, partnerships with the following: (i) An LEA; (ii) a charter management organization or charter school operator; (iii) an SEA; (iv) an institution of higher education; (v) a non-profit or for-profit organization; (vi) a local governmental agency (such as mayor's office or transportation or housing authority); (vii) a community-based organization; (viii) a Federal agency; and (ix) another organization, as determined by the applicant.

MOUs or other Binding Agreements. If applying as a consortium, consistent with 34 CFR 75.128, the applicant must submit as part of its application package, for each LEA in the consortium, copies of all MOUs or other binding agreements related to the consortium. If applying under the competitive preference priority, the applicant must submit, as part of its application package, copies of all MOUs or other binding agreements related to the partnership and described in the response to the competitive preference priority.

Signature. Applications must be signed by the LEA superintendent or CEO. In the case of a consortium, applications must be signed by each LEA superintendent or CEO.

Program Requirements: Within the project period of the grant award, an eligible applicant awarded an Opening Doors Expanding Opportunities Grant must—

(1) Submit to the Department, within the grant period, a blueprint that includes the following:

(a) A detailed needs analysis of the LEA(s) to determine the factors that have led to low student achievement in its SIG Schools or SIG-Eligible Schools, including:

(i) A comparison of student demographic and academic outcome information for the SIG Schools or SIG-Eligible Schools with that of other schools in the LEA(s);

(ii) A comparison of student demographic information for the SIG Schools or SIG-Eligible Schools with that of the residential population of the LEA(s), if such information is available and relevant; and

(iii) Other information, if such information is available and relevant, including, for the LEA(s) to be served:

(A) Other analyses of concentrated poverty or racial or ethnic segregation;

(B) Analyses of the location and capacity of school facilities or the adequacy of local or regional transportation infrastructure; and

(C) Analyses of school-level resources, including per pupil expenditures (if available), student access to instructional tools, full day Pre-Kindergarten, advanced coursework, and effective educators;

(b) An explanation of how the LEA(s) determined which schools would be served under the blueprint, including:

(i) The extent to which the LEA(s) gave priority to serving students in SIG Schools or SIG-Eligible Schools; and

(ii) The extent to which the determination of the participating schools reflected robust parental involvement and community engagement;

(c) Measurable goals, beginning with the 2019-2020 school year and for every two years thereafter through the 2025-2026 school year, including a description of how such goals were determined, for increasing student diversity and for improving student academic outcomes:

(i) In each school to be served;

(ii) At the applicant's discretion, in other schools in the LEA(s) to be served; and

(iii) At the applicant's discretion and if appropriate, in the LEA(s) to be served;

(d) A detailed description of the strategies the applicant will pursue to improve student academic outcomes in the schools to be served by increasing student diversity, including:

(i) A theory of action and the evidence base (with consideration for the Department's recent guidance on using evidence ²⁴) that support the appropriateness and effectiveness of the selected strategies based on findings from the needs analyses described in blueprint requirement (a) and the likelihood of achieving the goals described in blueprint requirement (c).

²⁴ Available at http://www2.ed.gov/policy/elsec/leg/essa/guidanceuseseinvestment.pdf.

(ii) For each selected strategy:

(A) A description of the anticipated challenges and potential solutions;

(B) Timeline for implementation;

(C) Costs associated with implementation, including the process by which such costs were estimated; and

(D) A description of the extent to which it reflects parental involvement and community engagement; and

Note: Selected strategies must not be limited to virtual educational experiences and may include, but are not limited to, redesigning school boundaries, assignment policies, feeder patterns, and admissions policies (e.g., establishing open enrollment using controlled choice); creating or expanding schools capable of attracting students from diverse backgrounds, including by converting existing schools into charter schools, theme schools, or magnet schools; using new funding strategies to incentivize schools to enroll a diverse group of students (e.g., weighted per-pupil allocations of State and local funds); and establishing or expanding inter-district school choice programs;

(e) A description of the significance of the anticipated impact on the participating LEA(s) and schools, including, but not limited to:

(i) The percentage and number of schools and students (disaggregated by socioeconomic status, race, or ethnicity, as appropriate for the blueprint) that will be affected by the implementation of the blueprint;

(ii) If applicable, how the implementation of the blueprint may positively or adversely affect diversity or educational opportunities available to poor or minority students in other schools within the LEA(s) and how these adverse effects could be mitigated; and

(iii) Potential cost savings as a result of specific strategies outlined in the blueprint.

(f) Plans for continued community engagement, parental involvement, and LEA and school staff capacity building to support the ongoing implementation of the blueprint (including a summary of how the community, parents, and family participated in the planning process as well as a description of how they will be engaged during implementation);

(g) If applicable, a description of how the applicant will leverage new or existing partnerships with entities such as, but not limited to, the following: (i) An LEA; (ii) a charter management organization or charter school operator; (iii) an SEA; (iv) an institution of higher education; (v) a non-profit or for-profit organization; (vi) a local governmental agency (such as mayor's office or transportation or housing authority); (vii) a community-based organization; (viii) a Federal agency; and (ix) another organization, as determined by the applicant;

(h) An implementation plan including a proposed personnel and management plan; and

(i) A description of potential opportunities to implement the blueprint (e.g., leveraging available Federal, State, local, and private funding sources, integrating the blueprint into related programs or initiatives).

(2) For grantees who applied under Absolute Priority 3, blueprints must be submitted to the Department prior to executing Pre-Implementation Activities.

Definitions: The following definitions apply to this competition. For the purposes of this competition, we establish the definitions for Community of Practice, Planning Activities, Pre-Implementation Activities, Rural School, SIG-Eligible School, and SIG School, in this notice, in accordance with section 437(d)(1) of GEPA, 20 U.S.C. 1232(d)(1). The definition for Local Educational Agency is from section 8101(30) of the ESEA, as amended by the ESSA.

Community of Practice means a group of grantees that meets and collaborates regularly to solve persistent problems and improve practice in areas important to the success of their projects.

Local Educational Agency (LEA) means a public board of education or other public authority legally constituted within a State for either administrative control or direction of, or to perform a service function for, public elementary schools or secondary schools in a city, county, township, school district, or other political subdivision of a State, or of or for a combination of school districts or counties that is recognized in a State as an administrative agency for its public elementary schools or secondary schools. The term includes any other public institution or agency having administrative control and direction of a public elementary school or secondary school. The term includes an elementary school or secondary school funded by the Bureau of Indian Education but only to the extent that including the school makes the school eligible for programs for which specific eligibility is not provided to the school in another provision of law and the school does not have a student population that is smaller than the student population of the Local Educational Agency receiving assistance under this Act with the smallest student population, except that the school shall not be subject to the jurisdiction of any State educational agency other than the Bureau of Indian Education. The term includes educational service agencies and consortia of those agencies. The term includes the State educational agency in a State in which the State educational agency is the sole educational agency for all public schools.

Planning Activities mean activities that support the development of a student diversity blueprint. Some examples of activities are:

(1) Collecting and analyzing available demographic data;

(2) Using surveys and other research strategies to gain a better understanding of local student diversity issues and concerns, barriers to integration, etc.;

(3) Identifying Federal, State, and local resources needed to implement each activity;

(4) Convening groups of stakeholders to better understand challenges (such as local zoning or State legislative barriers to overcome) and brainstorm solutions (such as viable opportunities to transport students to different schools);

(5) Designing student admission systems aligned to strategies included in the blueprint; and

(6) Visiting districts that are implementing diversity strategies to inform blueprint development.

Pre-Implementation Activities mean activities that support the development of an infrastructure to create more diverse schools as outlined in the blueprint. Some examples of activities are:

(1) Making upgrades to a data system to improve the capacity to track and use information relevant to the blueprint; and

(2) Piloting activities included in the blueprint (e.g., running a pilot student admissions lottery for select schools, redesigning school assignment boundaries, simulating various factors to consider for revised attendance zones).

Rural School is a school that is assigned a locale code of 41 (located in a census-defined rural territory less than 5 miles from an urban cluster), a locale code of 42 (located in a census-defined rural territory more than 5 miles but less than or equal to 25 miles from an urban cluster), or a locale code of 43 (located in a census-defined rural territory that is more than 25 miles from an urban cluster) by NCES. To identify the locale code of any school to be served by the proposed project, access the NCES public school database here: http://nces.ed.gov/ccd/schoolsearch/.

SIG-Eligible School means either:

(a) A school that is identified in the State's most recently approved State SIG application as a Tier I or Tier II school; or

(b) For a State that previously received approval of its ESEA flexibility request, any school identified as a priority or focus school by the State under ESEA flexibility for the 2016-2017 school year.

SIG School means either:

(a) A Tier I or Tier II school as defined in the SIG final requirements published in the Federal Register on February 9, 2015 (80 FR 7223) that is, as of the date of the application, implementing one of the SIG intervention models or a planning year in preparation to implement a model, including any school identified as a Tier I or Tier II school in the State's most recently approved State SIG application; or

(b) For a State that previously received approval of its ESEA flexibility request, any school identified as a priority or focus school by the State under ESEA flexibility for the 2016-2017 school year that is, as of the date of the application, implementing one of the SIG intervention models or a planning year in preparation to implement a model.

Waiver of Proposed Rulemaking: Under the Administrative Procedure Act (5 U.S.C. 553) the Department generally offers interested parties the opportunity to comment on proposed priorities, definitions, and other requirements. Section 437(d)(1) of GEPA, however, allows the Secretary to exempt from rulemaking requirements, regulations governing the first grant competition under a new or substantially revised program authority. This is the first grant competition for this program under Division H, Title III, of the Consolidated and Further Continuing Appropriations Act, 2016 (Pub. L. 114-113) and therefore qualifies for this exemption. In order to ensure timely grant awards, the Secretary has decided to forgo public comment on the priorities, definitions, and requirements under section 437(d)(1) of GEPA. These priorities, definitions, and requirements will apply to the FY 2017 grant competition and any subsequent year in which we make awards from the list of unfunded applicants from this competition.

Program Authority: Section 1003(g) of the ESEA, as amended by NCLB (20 U.S.C. 6303(g)); the Consolidated Appropriations Act, 2016 (Pub. L. 114-113).

Applicable Regulations: (a) The Education Department General Administrative Regulations (EDGAR) in 34 CFR parts 74, 75, 77, 81, 82, 84, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Notice of Final Requirements for SIG, published in the Federal Register on February 9, 2015 (80 FR 7223).

II. Award Information

Type of Award: Discretionary grant.

Estimated Available Funds: $12,000,000.

Contingent upon the availability of funds and the quality of applications, we may make additional awards in FY 2018 from the list of unfunded applications from this competition.

Estimated Range of Awards: $350,000-$750,000 under Absolute Priority 2; $500,000-$1,500,000 under Absolute Priority 3.

Estimated Average Size of Awards: $500,000 under Absolute Priority 2; $1,000,000 under Absolute Priority 3.

Maximum Award: We will not fully fund any application that proposes a budget exceeding $750,000 for a single budget period of 26 months under Absolute Priority 2 or $1,500,000 under Absolute Priority 3 for a single budget period of 26 months.

Estimated Number of Awards: 8-20.

Note: The Department is not bound by any estimates in this notice.

Project Period: Up to 26 months.

III. Eligibility Information

1. Eligible Applicants: (a) An LEA with at least one SIG School or SIG-Eligible School; and (b) a consortium of LEAs, each with at least one SIG School or SIG-Eligible School in each member LEA.

Note: Eligible applicants seeking to apply as a consortium must comply with the regulations in 34 CFR 75.127-75.129 (see Appendix for MOU or Other Binding Agreement Requirements for Consortia Applicants).

2. Cost Sharing or Matching: This competition does not require cost sharing or matching.

IV. Application and Submission Information

1. Address to Request Application Package: Ashley Briggs, U.S. Department of Education, 400 Maryland Avenue SW., Room 3W242, Washington, DC 20202. Telephone: (202) 453-6987 or by email: OpeningDoors@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2.a. Content and Form of Application Submission: Requirements concerning the content and form of an application, together with the forms you must submit, are in the application package for this competition.

Page Limit: The application narrative is where you, the applicant, address the selection criteria that reviewers use to evaluate your application. You must limit the application narrative to no more than 40 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative.

Our reviewers will not read any pages of your application that exceed the page limit.

2.b. Submission of Proprietary Information: Given the types of projects that may be proposed, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: December 14, 2016.

Date of Pre-Application Webinar: January 5, 2017.

Deadline for Notice of Intent to Apply (optional): January 13, 2017.

Deadline for Transmittal of Applications: February 13, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: April 13, 2017.

4. Intergovernmental Review: This project is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Opening Doors, Expanding Opportunities program must be submitted electronically using the Governmentwide Grants.gov Apply site at www.Grants.gov. Through this site, you will be able to download a copy of the application package, complete it offline, and then upload and submit your application. You may not email an electronic copy of a grant application to the Department.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Opening Doors, Expanding Opportunities at www.Grants.gov. You must search for the downloadable application package for this competition by the CFDA number. Do not include the CFDA number's alpha suffix in your search (e.g., search for 84.377, not 84.377C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters).

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Ashley Briggs, U.S. Department of Education, 400 Maryland Avenue SW., Room 3W242, Washington, DC 20202. Fax: (202) 401-1557.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.377C, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.377C, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210. We will award up to 100 points to an application under the selection criteria; the total possible points for addressing each selection criterion are noted in parentheses.

a. Need for Project (25 Points)

The Secretary considers the need for the proposed project. In determining the need for the proposed project, the Secretary considers the following factors:

1. The magnitude or severity of the problem to be addressed by the proposed project.

2. The extent to which the proposed project will focus on serving or otherwise addressing the needs of disadvantaged individuals.

3. The extent to which specific gaps or weaknesses in services, infrastructure, or opportunities have been identified and will be addressed by the proposed project, including the nature and magnitude of those gaps or weaknesses.

b. Significance (15 Points)

The Secretary considers the significance of the proposed project. In determining the significance of the proposed project, the Secretary considers the following factors:

1. The potential contribution of the proposed project to increased knowledge or understanding of educational problems, issues, or effective strategies.

2. The extent to which the proposed project is likely to build local capacity to provide, improve, or expand services that address the needs of the target population.

c. Quality of the Project Design (30 Points)

The Secretary considers the quality of the design of the proposed project. In determining the quality of the design of the proposed project, the Secretary considers the following factors:

1. The potential and planning for the incorporation of project purposes, activities, or benefits into the ongoing work of the applicant beyond the end of the grant.

2. The extent to which the proposed project will integrate with or build on similar or related efforts to improve relevant outcomes (as defined in 34 CFR 77.1(c)), using existing funding streams from other programs or policies supported by community, State, and Federal resources.

3. The extent to which the proposed project will establish linkages with other appropriate agencies and organizations providing services to the target population.

4. The extent to which the proposed project encourages parental involvement.

d. Quality of Project Personnel (10 Points)

The Secretary considers the quality of the personnel who will carry out the proposed project. In determining the quality of project personnel, the Secretary considers the extent to which the applicant encourages applications for employment from persons who are members of groups that have traditionally been underrepresented based on race, color, national origin, gender, age, or disability. In addition, the Secretary considers the following factors:

1. The qualifications, including relevant training and experience, of the project director or principal investigator.

2. The qualifications, including relevant training and experience, of key project personnel.

3. The qualifications, including relevant training and experience, of project consultants or subcontractors.

e. Quality of the Management Plan (15 Points)

The Secretary considers the quality of the management plan for the proposed project. In determining the quality of the management plan for the proposed project, the Secretary considers the following factors:

1. The adequacy of the management plan to achieve the objectives of the proposed project on time and within budget, including clearly defined responsibilities, timelines, and milestones for accomplishing project tasks.

2. How the applicant will ensure that a diversity of perspectives are brought to bear in the operation of the proposed project, including those of parents, teachers, the business community, a variety of disciplinary and professional fields, recipients or beneficiaries of services, or others, as appropriate.

f. Adequacy of Resources (5 Points)

The Secretary considers the adequacy of resources for the proposed project. In determining the adequacy of resources for the proposed project, the Secretary considers the following factors:

1. The extent to which the budget is adequate to support the proposed project.

2. The extent to which the costs are reasonable in relation to the objectives, design, and potential significance of the proposed project.

3. The adequacy of support, including facilities, equipment, supplies, and other resources, from the applicant organization or the lead applicant organization.

2. Review and Selection Process: To ensure that grantees under this project serve both LEAs that are just beginning efforts to diversify schools and those that have established or existing efforts to diversify their schools, the Department may separately consider for funding applications meeting Absolute Priority 2 and those meeting Absolute Priority 3. We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report that must include a description of progress to date on its goals, timelines, activities, deliverables, and budgets. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

4. Performance Measures: The Secretary has established measures for assessing the effectiveness of the Opening Doors, Expanding Opportunities program. The performance measures are:

Performance Measure 1 (for all grantees): The percentage of grantees that produce blueprints that are of high quality and feasible to implement. In evaluating performance with respect to this measure, the Department may convene, at the end of the grant period, a panel of experts to assess blueprints using specific criteria regarding quality and feasibility of implementation.

Performance Measure 2 (for grantees awarded under Absolute Priority 3): The percentage of grantees that complete their Pre-Implementation Activities successfully and in a manner consistent with the objectives and timelines proposed in their application.

VII. Agency Contact

FOR FURTHER INFORMATION CONTACT: Ashley Briggs, U.S. Department of Education, 400 Maryland Avenue SW., room 3W242, Washington, DC 20202. Telephone: (202) 453-6987 or by email: OpeningDoors@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: December 8, 2016.
Ann Whalen,
Senior Advisor to the Secretary, Delegated the Duties of Assistant Secretary, for Elementary and Secondary Education.

Appendix: Memorandum of Understanding or Other Binding Agreement Requirements for Consortia Applicants

An applicant that is applying as part of a consortium must enter into a memorandum of understanding (MOU) or other binding agreement with each member of the consortium. At a minimum, each MOU or other binding agreement must include the following key elements, each of which is described in detail below: (1) Terms and conditions; and (2) signatures.

1. Terms and conditions: In accordance with the Opening Doors, Expanding Opportunities application requirements and the requirements for group applicants under 34 CFR 75.127-129, the MOU must:

a. Designate one member of the group to apply for the grant or establish a separate legal entity to apply for the grant;

b. Detail the activities that each party plans to perform;

c. Bind each party to every statement and assurance made by the applicant in the application;

d. State that the applicant for the consortium (the lead LEA) is legally responsible for:

i. The use of all grant funds;

ii. Ensuring that the project is carried out by the partners or consortium in accordance with Federal requirements;

iii. Ensuring that the indirect costs are determined as required under 34 CFR 75.564(e);

iv. Carrying out the activities it has agreed to perform; and

v. Using the funds that it receives under the MOU or other binding agreement in accordance with the Federal requirements that apply to the Opening Doors, Expanding Opportunities grant.

e. State that each member of the consortium is legally responsible for:

i. Carrying out the activities it has agreed to perform; and

ii. Using the funds that it receives under the MOU or other binding agreement in accordance with the Federal requirements that apply to the Opening Doors, Expanding Opportunities grant.

2. Signatures: Each MOU must be signed by each party's superintendent or CEO.

[FR Doc. 2016-29936 Filed 12-13-16; 8:45 am]

BILLING CODE 4000-01-P